DEPARTMENT OF HEALTH AND HUMAN SERVICES

Centers for Disease Control and Prevention

[CDC-2013-0015; Docket Number NIOSH 237-A]

National Framework for Personal Protective Equipment Conformity Assessment—Infrastructure

AGENCY: National Institute for Occupational Safety and Health (NIOSH) of the Centers for Disease Control and Prevention (CDC), Department of Health and Human Services (HHS).

ACTION: Notice of availability.

SUMMARY: NIOSH announces the availability of the following publication: National Framework for Personal Protective Equipment Conformity Assessment—Infrastructure.

DATES: The technical report was published on November 17, 2017.

ADDRESSES: This document may be obtained at the following link: https://www.cdc.gov/niosh/docs/2018-102/default.html.

FOR FURTHER INFORMATION CONTACT: Maryann M. D'Alessandro, NIOSH, National Personal Protective Technology Laboratory, 626 Cochrans Mill Road, Building 20, Pittsburgh, PA 15236, email address: bpj5@cdc.gov, (412) 386-6111 (not a toll free number).

SUPPLEMENTARY INFORMATION: In May 2011, NIOSH published a notice in the Federal Register [76 FR 28791] requesting comments on the recommendations issued by the Institute of Medicine in a report they electronically published in November 2010, titled, “Certifying Personal Protective Technologies.” In August 2013, NIOSH published a notice in the Federal Register [78 FR 49524] requesting comments on the draft NIOSH response to the Institute of Medicine recommendations, and announcing a public meeting which was held on September 17, 2013. In response to a request, NIOSH extended the public comment period to December 2, 2013. All comments received were reviewed and addressed where appropriate.

John Howard,
Director, National Institute for Occupational Safety and Health, Centers for Disease Control and Prevention.

[FR Doc. 2018-00252 Filed 1-9-18; 8:45 am]

BILLING CODE 4163-19-P